FEDERAL COMMUNICATIONS COMMISSION

47 CFR Part 73

[DA 11-1432]

Digital Broadcast Television Redistribution Control; Corrections

AGENCY: Federal Communications Commission.

ACTION: Technical amendment.

SUMMARY: The Federal Communications Commission (FCC) is correcting a final rule that appeared in the Federal Register of September 9, 2011 [76 FR 55817]. The document removed broadcast flag rules that are without current legal effect and are obsolete. The document inadvertently removed unrelated rules contained in Subpart L of Part 73 of the Commission's rules. This document corrects that error.

DATES: Effective October 11, 2011.

FOR FURTHER INFORMATION CONTACT: For additional information on this proceeding, contact Katie Costello, Katie.Costello@fcc.gov of the Media Bureau, Policy Division, (202) 418-2233.

SUPPLEMENTARY INFORMATION: FR Doc. 2011-23010 published in the Federal Register on Friday, September 9, 2011, 76 FR 55817, inadvertently removed rules contained in Subpart L of Part 73. The following correcting amendments are made to restore those rules.

List of Subjects in 47 CFR Part 73

Incorporation by reference, Radio, Television.

Accordingly, 47 CFR part 73 is corrected by making the following correcting amendments:

PART 73—RADIO BROADCAST SERVICES

1. The authority citation for part 73 continues to read as follows:

Authority: 47 U.S.C. 154, 303, 334, 336 and 339.

2. Add Subpart L to read as follows:

Subpart L—Incorporated Standards

§ 73.8000 Incorporation by reference.

(a) The materials listed in this section are incorporated by reference in this part. These incorporations by reference were approved by the Director of the Federal Register in accordance with 5 U.S.C. 552(a) and 1 CFR part 51. These materials are incorporated as they exist on the date of the approval, and notice of any change in these materials will be published in the Federal Register. The materials are available for inspection at the Federal Communications Commission (FCC), 445 12th St., SW., Reference Information Center, Room CY-A257, Washington, DC 20554 and at the National Archives and Records Administration (NARA). For information on the availability of this material at NARA, call 202-741-6030, or go to: http://www.archives.gov/federal_register/code_of_federal_regulations/ibr_locations.html.

(b) The following materials are available from Advanced Television Systems Committee (ATSC), 1750 K Street, NW., Suite 1200, Washington, DC 20006, or at the ATSC Web site: http://www.atsc.org/standards.html.

(1) ATSC A/52: “ATSC Standard Digital Audio Compression (AC-3),” 1995, IBR approved for § 73.682.

(2) ATSC A/53 Parts 1-4 and 6: 2007 “ATSC Digital Television Standard,” (January 3, 2007) and ATSC A/53 Part 5: 2010 “ATSC Digital Television Standard: Part 5—AC-3 Audio System Characteristic,” (July 6, 2010), as listed below:

(i) A/53, Part 1:2007, “Digital Television System” (January 3, 2007), IBR approved for § 73.682.

(ii) A/53, Part 2:2007, “RF/Transmission System Characteristics” (January 3, 2007), IBR approved for § 73.682.

(iii) A/53, Part 3:2007, “Service Multiplex and Transport Subsystem Characteristics” (January 3, 2007), IBR approved for § 73.682.

(iv) A/53, Part 4:2007, “MPEG-2 Video System Characteristics” (January 3, 2007), IBR approved for § 73.682, except for § 6.1.2 of A/53 Part 4: 2007, and the phrase “see Table 6.2” in section 6.1.1 Table 6.1 and section 6.1.3 Table 6.3.

(v) A/53, Part 5: 2010, “AC-3 Audio System Characteristics” (July 6, 2010), IBR approved for § 73.682.

(vi) A/53, Part 6:2007, “Enhanced AC-3 Audio System Characteristics” (January 3, 2007), IBR approved for § 73.682.

(3) [Reserved]

(4) ATSC A/65C: “ATSC Program and System Information Protocol for Terrestrial Broadcast and Cable, Revision C With Amendment No. 1 dated May 9, 2006,” (January 2, 2006), IBR approved for §§ 73.682.

(c) [Reserved]

(d) The following materials are available at the FCC, 445 12th St., SW., Reference Information Center, Room CY-A257, Washington, DC 20554, or at the FCC's Office of Engineering and Technology (OET) Web site: http://www.fcc.gov/oet/info/documents/bulletins/.

(1) OET Bulletin No. 69: “Longley-Rice Methodology for Evaluating TV Coverage and Interference” (February 6, 2004), IBR approved for § 73.616.

(2) [Reserved]

Federal Communications Commission.
Thomas Horan,
Chief of Staff, Media Bureau.

[FR Doc. 2011-25797 Filed 10-7-11; 8:45 am]

BILLING CODE 6712-01-P